DEPARTMENT OF TRANSPORTATION

Federal Aviation Administration

14 CFR Part 39

[Docket No. FAA-2022-1311; Project Identifier MCAI-2022-00624-E]

RIN 2120-AA64

Airworthiness Directives; Safran Helicopter Engines, S.A. (Type Certificate Previously Held by Turbomeca, S.A.) Engines

AGENCY: Federal Aviation Administration (FAA), DOT.

ACTION: Supplemental notice of proposed rulemaking (SNPRM).

SUMMARY: The FAA is revising a notice of proposed rulemaking (NPRM) that would have applied to all Safran Helicopter Engines, S.A. (Safran) (type certificate previously held by Turbomeca, S.A.) Model Arriel 2D and Arriel 2E engines. This action revises the NPRM by proposing to require updating the airworthiness limitation section (ALS) of the existing engine maintenance manual (EMM) or instructions for continued airworthiness (ICA) and the existing approved maintenance or inspection program, as applicable, by incorporating the actions and associated thresholds and intervals, including life limits, as specified in a European Union Aviation Safety Agency (EASA) airworthiness directive (AD), which is proposed for incorporation by reference (IBR). The FAA is proposing this AD to address the unsafe condition on these products. Since these actions would revise the required actions proposed in the NPRM, the agency is requesting comments on this SNPRM.

DATES: The FAA must receive comments on this SNPRM by August 28, 2023.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2022-1311; or in person at Docket Operations between 9 a.m. and 5 p.m., Monday through Friday, except Federal holidays. The AD docket contains the NPRM, this SNPRM, the mandatory continuing airworthiness information (MCAI), any comments received, and other information. The street address for Docket Operations is listed above.

Material Incorporated by Reference:

• For service information identified that is proposed for IBR in this SNPRM, contact EASA, KonradAdenauer-Ufer 3, 50668 Cologne, Germany; phone: +49 221 8999 000; email: ADs@easa.europa.eu. You may find this material on the EASA website at ad.easa.europa.eu. It is also available at regulations.gov under Docket No. FAA-2022-1311.

• You may view this service information at the FAA, Airworthiness Products Section, Operational Safety Branch, 1200 District Avenue, Burlington, MA 01803. For information on the availability of this material at the FAA, call (817) 222-5110.

FOR FURTHER INFORMATION CONTACT: Kevin Clark, Aviation Safety Engineer, FAA, 1600 Stewart Avenue, Suite 410, Westbury, NY 11590; phone: (781) 238-7088; email: kevin.m.clark@faa.gov.

SUPPLEMENTARY INFORMATION:

Comments Invited

The FAA invites you to send any written relevant data, views, or arguments about this proposal. Send your comments to an address listed under ADDRESSES. Include “Docket No. FAA-2022-1311; Project Identifier MCAI-2022-00624-E” at the beginning of your comments. The most helpful comments reference a specific portion of the proposal, explain the reason for any recommended change, and include supporting data. The FAA will consider all comments received by the closing date and may again revise this proposal because of those comments.

Except for Confidential Business Information (CBI) as described in the following paragraph, and other information as described in 14 CFR 11.35, the FAA will post all comments received, without change, to regulations.gov, including any personal information you provide. The agency will also post a report summarizing each substantive verbal contact received about this SNPRM.

Confidential Business Information

CBI is commercial or financial information that is both customarily and actually treated as private by its owner. Under the Freedom of Information Act (FOIA) (5 U.S.C. 552), CBI is exempt from public disclosure. If your comments responsive to this SNPRM contain commercial or financial information that is customarily treated as private, that you actually treat as private, and that is relevant or responsive to this SNPRM, it is important that you clearly designate the submitted comments as CBI. Please mark each page of your submission containing CBI as “PROPIN.” The FAA will treat such marked submissions as confidential under the FOIA, and they will not be placed in the public docket of this SNPRM. Submissions containing CBI should be sent to Kevin Clark, Aviation Safety Engineer, FAA, 1600 Stewart Avenue, Suite 410, Westbury, NY 11590. Any commentary that the FAA receives which is not specifically designated as CBI will be placed in the public docket for this rulemaking.

Background

The FAA issued an NPRM to amend 14 CFR part 39 by adding an AD that would apply to all Safran Model Arriel 2D and Arriel 2E engines. The NPRM published in the Federal Register on October 31, 2022 (87 FR 65535). The NPRM proposed to supersede AD 2021-08-02 (86 FR 26651, May 17, 2021) (AD 2021-08-02). The NPRM was prompted by EASA AD 2022-0083, dated May 11, 2022 (EASA AD 2022-0083), issued by EASA, which is the Technical Agent for the Member States of the European Union (referred to after this as the MCAI), which supersedes EASA AD 2018-0273, dated December 13, 2018 (EASA AD 2018-0273). The MCAI states that the manufacturer published a revised ALS introducing new and more restrictive maintenance tasks and airworthiness limitations. These new or more restrictive maintenance tasks and airworthiness limitations include initial and repetitive inspections for clogging of the power turbine air pressurization pipe.

AD 2021-08-02 requires replacing certain critical parts before reaching their published in-service life limits, performing scheduled maintenance tasks before reaching their published periodicity, and performing unscheduled maintenance tasks when the engine meets certain conditions. As a terminating action, AD 2021-08-02 requires operators to revise the ALS of their existing approved maintenance or inspection program by incorporating the revised airworthiness limitations and maintenance tasks.

In the NPRM, the FAA proposed to supersede AD 2021-08-02 and require revisioning the ALS of the operator's existing approved maintenance or inspection program, as applicable, to incorporate new and more restrtictive airworthiness limitations. These new or more restrictive airworthiness limitations and maintenance tasks include initial and repetitive inspections for clogging of the power turbine air pressurization pipe. The FAA proposed this AD to prevent failure of the engine. This unsafe condition, if not addressed, could result in uncontained release of a critical part, damage to the engine, and damage to the helicopter. See EASA AD 2022-0083 for additional background information.

You may examine the MCAI in the AD docket at regulations.gov under Docket No. FAA-2022-1311.

Actions Since the NPRM Was Issued

Since the FAA issued the NPRM, the FAA discovered an inaccurate reference to a certain paragraph of EASA AD 2022-0083 in paragraph (g) of the NPRM and determined that a reduced compliance time of 90 days is necessary. This SNPRM was prompted by the FAA's determination that the revised airworthiness limitations and new maintenance procedures are necessary and the need to correct an inaccurate paragraph reference. The FAA is proposing this AD to address the unsafe condition on these products.

Comments

The FAA received no comments on the NPRM or on the determination of the costs.

Related Service Information Under 1 CFR Part 51

The FAA reviewed EASA AD 2022-0083, which specifies instructions for accomplishing the actions specified in the applicable ALS, including performing maintenance tasks, replacing life-limited parts, and revising the existing approved AMP by incorporating the limitations, tasks, and associated thresholds and intervals described in the ALS.

This material is reasonably available because the interested parties have access to it through their normal course of business or by the means identified in ADDRESSES.

FAA's Determination

These products have been approved by the aviation authority of another country and are approved for operation in the United States. Pursuant to the FAA's bilateral agreement with this State of Design Authority, it has notified the FAA of the unsafe condition described in the MCAI described above. The FAA is issuing this SNPRM after determining that the unsafe condition described previously is likely to exist or develop on other products of the same type design. Certain changes described above expand the scope of the NPRM. As a result, it is necessary to reopen the comment period to provide additional opportunity for the public to comment on this SNPRM.

Proposed AD Requirements in This SNPRM

This proposed AD would retain none of the requirements of AD 2021-08-02. This proposed AD would require revising the ALS of the existing EMM or instructions for continued airworthiness and the existing approved maintenance or inspection program, as applicable, to incorporate the actions specified in paragraph (1) of the MCAI, described previously, except as discussed under “Differences Between this SNPRM and the MCAI.” The owner/operator (pilot) holding at least a private pilot certificate may revise the ALS of the existing EMM or ICA and the existing approved maintenance or inspection program, as applicable for the engine, and must enter compliance with the applicable paragraphs of this proposed AD into the engine maintenance records in accordance with 14 CFR 43.9(a) and 91.417(a)(2)(v). The record must be maintained as required by 14 CFR 91.417, 121.380, or 135.439. This action could be performed equally well by a pilot or a mechanic. This is an exception to the FAA's standard maintenance regulations.

Explanation of Required Compliance Information

In the FAA's ongoing efforts to improve the efficiency of the AD process, the FAA developed a process to use some civil aviation authority (CAA) ADs as the primary source of information for compliance with requirements for corresponding FAA ADs. The FAA has since coordinated with other manufacturers and CAAs to use this process. As a result, the FAA proposes to incorporate by reference EASA AD 2022-0083 in the FAA final rule. Service information required by the EASA AD for compliance will be available at regulations.gov under Docket No. FAA-2022-1311 after the FAA final rule is published.

Differences Between This SNPRM and the MCAI

EASA AD 2022-0083 applies to Arriel 2D, 2E, 2H, 2L2, and 2N model turboshaft engines, whereas this proposed AD would only apply to Arriel 2D and Arriel 2E model turboshaft engines. Arriel 2H, 2L2, and 2N engines are not U.S. type certificated.

Paragraph (1) of EASA AD 2022-0083 specifies to replace each component before exceeding the applicable life limit and, within the thresholds and intervals, accomplishing all applicable maintenance tasks after its effective date. This proposed AD would instead require revising the ALS of the existing EMM or ICA and the existing approved maintenance or inspection program, as applicable, by incorporating the requirements specified in paragraph (1) of EASA AD 2022-0083 within 90 days after the effective date of this AD.

Costs of Compliance

The FAA estimates that this AD, if adopted as proposed, would affect 426 engines installed on helicopters of U.S. Registry.

The FAA estimates the following costs to comply with this proposed AD:

Estimated Costs
Action | Labor cost | Parts cost | Cost per product | Cost on U.S. operators
Revise the ALS of the existing EMM or ICA and the existing approved maintenance or inspection program | 1 work-hours × $85 per hour = $85 | $0 | $85 | $36,210

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2021-08-02, Amendment 39-21496 (86 FR 26651, May 17, 2021); and

b. Adding the following new airworthiness directive:

Safran Helicopter Engines, S.A. (Type Certificate Previously Held by Turbomeca, S.A.): Docket No. FAA-2022-1311; Project Identifier MCAI-2022-00624-E.

(a) Comments Due Date

The FAA must receive comments on this airworthiness directive (AD) by August 28, 2023.

(b) Affected ADs

This AD replaces AD 2021-08-02, Amendment 39-21496 (86 FR 26651, May 17, 2021) (AD 2021-08-02).

(c) Applicability

This AD applies to Safran Helicopter Engines, S.A. (type certificate previously held by Turbomeca, S.A.) Model Arriel 2D and Arriel 2E engines.

(d) Subject

Joint Aircraft Service Component (JASC) Code 7250, Turbine section.

(e) Unsafe Condition

This AD was prompted by the manufacturer revising the airworthiness limitations section (ALS) of the existing engine maintenance manual (EMM) to introduce new or more restrictive tasks and limitations for certain life-limited parts. The FAA is issuing this AD to prevent failure of life-limited parts. The unsafe condition, if not addressed, could result in uncontained release of a critical part, damage to the engine, and damage to the helicopter.

(f) Compliance

Comply with this AD within the compliance times specified, unless already done.

(g) Required Actions

(1) Within 90 days after the effective date of this AD, revise the ALS of the existing EMM or instructions for continued airworthiness and the existing approved maintenance or inspection program, as applicable, by incorporating the actions specified in paragraph (1) of European Union Aviation Safety Agency (EASA) AD 2022-0083, dated May 11, 2022 (EASA AD 2022-0083).

(2) The owner/operator (pilot) holding at least a private pilot certificate may perform the action required by paragraph (g)(1) of this AD for your engine and must enter compliance with the applicable paragraphs of this AD into the engine maintenance records in accordance with 14 CFR 43.9(a) and 91.417(a)(2)(v). The record must be maintained as required by 14 CFR 91.417, 121.380, or 135.439.

(h) Provisions for Alternative Actions and Intervals

After the actions required by paragraph (g) of this AD have been done, no alternative actions and associated thresholds and intervals, including life limits, are allowed unless they are approved as specified in the provisions of the “Ref Publication” section of EASA AD 2022-0083.

(i) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j) of this AD and email to: ANE-AD-AMOC@faa.gov.

(2) Before using any approved AMOC, notify your appropriate principal inspector, or lacking a principal inspector, the manager of the local flight standards district office/certificate holding district office.

(j) Additional Information

For more information about this AD, contact Kevin Clark, Aviation Safety Engineer, FAA, 1600 Stewart Avenue, Suite 410, Westbury, NY 11590; phone: (781) 238-7088; email: kevin.m.clark@faa.gov.

(k) Material Incorporated by Reference

(1) The Director of the Federal Register approved the incorporation by reference of the service information listed in this paragraph under 5 U.S.C. 552(a) and 1 CFR part 51.

(2) You must use this service information as applicable to do the actions required by this AD, unless the AD specifies otherwise.

(i) European Union Aviation Safety Agency AD 2022-0083, dated May 11, 2022.

(ii) [Reserved]

(3) For EASA AD 2022-0083, contact EASA, KonradAdenauer-Ufer 3, 50668 Cologne, Germany; phone: +49 221 8999 000; email: ADs@easa.europa.eu. You may find this material on the EASA website at ad.easa.europa.eu.

(4) You may view this service information at the FAA, Airworthiness Products Section, Operational Safety Branch, 1200 District Avenue, Burlington, MA 01803. For information on the availability of this material at the FAA, call (817) 222-5110.

(5) You may view this service information that is incorporated by reference at the National Archives and Records Administration (NARA). For information on the availability of this material at NARA, email: fr.inspection@nara.gov, or go to: www.archives.gov/federal-register/cfr/ibr-locations.html.

Issued on July 6, 2023.
Michael Linegang,
Acting Director, Compliance & Airworthiness Division, Aircraft Certification Service.

[FR Doc. 2023-14843 Filed 7-13-23; 8:45 am]

BILLING CODE 4910-13-P